DEPARTMENT OF DEFENSE

Department of the Army

32 CFR Part 502

Relief Assistance

AGENCY: Department of the Army, DoD.

ACTION: Final rule.

SUMMARY: This action removes 32 CFR Part 502, Relief Assistance. The regulations are being removed because they are obsolete and no longer govern policies and procedures for disaster relief activities. The program responsibility has been transferred to the Office of the Assistant Secretary of Defense for Homeland Defense.

DATES: Effective April 30, 2008.

ADDRESSES: Department of the Army, Office of the Deputy Chief of Staff, G-3/5/7, DAMO-ODS, 400 Army Pentagon, Washington, DC 20310-0400.

FOR FURTHER INFORMATION, CONTACT: Ms. Loretta Phillips, (703) 692-7459.

SUPPLEMENTARY INFORMATION: The responsibility for this program was originally with the Department of the Army and was published as 32 CFR part 502. The program responsibility was transferred to the Office of the Assistant Secretary of Defense for Homeland Defense and is now covered by the DoD Directive 3025.1, Military Support to Civil Authorities (MSCA) which replaces the requirements formerly set forth. Therefore, to avoid confusion with the public, 32 CFR Part 502 is removed.

List of Subjects in 32 CFR Part 502

Armed forces, Disaster assistance.

PART 502—[REMOVED]

Accordingly, for reasons stated in the preamble, under the authority of Section 3012, 70A Stat. 147; 10 U.S.C. 3012, 32 CFR part 502, Relief Assistance, is removed in its entirety.

Brenda S. Bowen,
Army Federal Register Liaison Officer.

[FR Doc. E8-9436 Filed 4-29-08; 8:45 am]

BILLING CODE 3710-08-P